DEPARTMENT OF TRANSPORTATION

Pipeline and Hazardous Materials Safety Administration

[Docket No.: PHMSA-2021-0095; Notice No. 2021-08]

Hazardous Materials: Public Meeting Notice for the Research, Development & Technology Forum

AGENCY: Pipeline and Hazardous Materials Safety Administration (PHMSA), Department of Transportation (DOT).

ACTION: Notice of public meeting.

SUMMARY: The Pipeline and Hazardous Materials Safety Administration's (PHMSA) Office of Hazardous Materials Safety (OHMS) will hold a public Research, Development & Technology Forum October 12-15, 2021, virtually on Microsoft Teams (MS Teams) to present the results of recently completed projects, brief new project plans, and obtain stakeholder input on the direction of current and future research projects on topics including mitigation of climate change, risk management and mitigation, packaging integrity, emerging technology, and technical analysis to aid risk assessment.

DATES: The meeting will be held virtually on MS Teams from October 12 to 15, 2021, from 11:00 a.m. to 2:00 p.m. Eastern Standard Time on each day.

ADDRESSES: DOT requests that attendees pre-register for these meetings by completing the form, at: https://forms.office.com/Pages/ResponsePage.aspx?id=WyTNxPBElUOhqjhI0lj3i42Qs1CodOdEpKD7cpFYhKRUNE9LRTlWVkI3QjlFSkhIUVFZNVFNWEpUSi4u.

Conference call-in and “live meeting” capability will be provided. Specific information about conference call-in and live meeting access will be posted at: https://www.phmsa.dot.gov/research-and-development/hazmat/rd-meetings-and-events under “Upcoming Events.”

FOR FURTHER INFORMATION CONTACT: Andy Leyder or Britain Bruner, Ph.D., Office of Hazardous Materials Safety, Research, Development & Technology, Pipeline and Hazardous Materials Safety Administration, U.S. Department of Transportation, Washington, DC. Telephone: (202) 360-0664 and (202) 366-8830. Email: Andrew.Leyder@dot.gov or Britain.Bruner@dot.gov.

SUPPLEMENTARY INFORMATION: During the meeting, OHMS will solicit comments related to new research topics that may be considered for inclusion in its future work. OHMS is particularly interested in the research gaps associated with energetic materials (explosives) characterization and transport, safe transportation of energy products (e.g., crude oil), safe containment and transportation of compressed gases, and safe packaging and transportation of charge storage devices (e.g., lithium ion batteries), and how these might aid in mitigation of climate change. The forum will also include an opportunity for stakeholder input that identifies other research gaps related to the transportation of hazardous materials.

Issued in Washington, DC, on September 20, 2021, under authority delegated in 49 CFR 1.97.
William S. Schoonover,
Associate Administrator for Hazardous Materials Safety, Pipeline and Hazardous Materials Safety Administration.

[FR Doc. 2021-20599 Filed 9-22-21; 8:45 am]

BILLING CODE 4910-60-P